DEPARTMENT OF TRANSPORTATION

Federal Aviation Administration

14 CFR Part 39

[Docket No. 2001-NM-167-AD; Amendment 39-13433; AD 2004-01-19]

RIN 2120-AA64

Airworthiness Directives; McDonnell Douglas Model MD-11 and -11F Airplanes

AGENCY: Federal Aviation Administration, DOT.

ACTION: Final rule.

SUMMARY: This amendment adopts a new airworthiness directive (AD), applicable to certain McDonnell Douglas Model MD-11 and -11F airplanes, that requires replacement of the wire assembly connectors of the bag rack lighting with new, moisture-resistant connectors and reidentification of the bag racks. This action is necessary to prevent arcing of the wire assembly connectors of the overhead storage bin, and service module and bin extension assemblies, and consequent smoke/fire in the cabin. This action is intended to address the identified unsafe condition.

DATES: Effective February 24, 2004.

The incorporation by reference of certain publications listed in the regulations is approved by the Director of the Federal Register as of February 24, 2004.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) to include an airworthiness directive (AD) that is applicable to certain McDonnell Douglas Model MD-11 and -11F airplanes was published in the Federal Register on July 24, 2003 (68 FR 43681). That action proposed to require replacement of the wire assembly connectors of the bag rack lighting with new, moisture-resistant connectors and reidentification of the bag racks.

Comments

Interested persons have been afforded an opportunity to participate in the making of this amendment. Due consideration has been given to the comments received.

Requests To Revise Applicability

Two commenters request that the applicability of the proposed AD be revised to exclude airplanes with certain manufacturer's fuselage numbers (MSN) that have been modified from a passenger-to-freighter configuration. One commenter notes that the proposed AD affects both Model MD-11 (passenger) and -11F (freighter) airplanes, as listed in Boeing Alert Service Bulletin MD11-33A064, dated March 6, 2002. The commenters also note that the effectivity listing of the referenced service bulletin includes manufacturer's fuselage numbers (MFN) 530, 537, 540, 547, 550, 554, and 574. The commenters state that, at the time the service bulletin was written, these MFNs were passenger airplanes; however, Boeing has since converted these MFNs to freighters. The commenters conclude that these MFNs no longer have approved configurations that include the components affected by the proposed AD.

We agree. We have revised the applicability to exclude airplanes that have been converted from a passenger-to-freighter configuration, on which passenger configuration equipment has been removed per Boeing-approved drawings after March 6, 2002 (the issue date of Boeing Alert Service Bulletin MD11-33A064).

Conclusion

After careful review of the available data, including the comment noted above, the FAA has determined that air safety and the public interest require the adoption of the rule with the changes previously described. The FAA has determined that these changes will neither increase the economic burden on any operator nor increase the scope of the AD.

Cost Impact

There are approximately 111 Model MD-11 and -11F airplanes of the affected design in the worldwide fleet. The FAA estimates that 26 airplanes of U.S. registry will be affected by this AD.

For Group 1 airplanes identified in the referenced service bulletin, it will take approximately 11 work hours per airplane to accomplish the required actions, at an average labor rate of $65 per work hour. Required parts will cost between $1,140 and $1,406 per airplane. Based on these figures, the cost impact of the AD on U.S. operators is estimated to be $1,855 and $2,121 per airplane.

For Group 2 airplanes identified in the referenced service bulletin, it will take approximately 13 work hours per airplane to accomplish the required actions, at an average labor rate of $65 per work hour. Required parts will cost between $1,140 and $1,406 per airplane. Based on these figures, the cost impact of the AD on U.S. operators is estimated to be $1,985, and $2,251 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. Manufacturer warranty remedies may also be available for labor costs associated with this AD.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-01-19 McDonnell Douglas: Amendment 39-13433. Docket 2001-NM-167-AD.

Applicability: Model MD-11 and -11F airplanes, as listed in Boeing Alert Service Bulletin MD11-33A064, dated March 6, 2002; certificated in any category; excluding those airplanes that have been converted from a passenger-to-freighter configuration, on which passenger configuration equipment has been removed per Boeing-approved drawings after March 6, 2002 (the issue date of Boeing Alert Service Bulletin MD11-33A064).

Compliance: Required as indicated, unless accomplished previously.

To prevent arcing of the wire assembly connectors of the overhead storage bin, and service module and bin extension assemblies, and consequent smoke/fire in the cabin, accomplish the following:

Replacement and Reidentification

(a) Within 12 months after the effective date of this AD, replace the wire assembly connectors of the bag rack lighting with new, moisture-resistant connectors and reidentify the bag racks, per Boeing Alert Service Bulletin MD11-33A064, dated March 6, 2002.

Alternative Methods of Compliance

(b) In accordance with 14 CFR 39.19, the Manager, Los Angeles Aircraft Certification Office (ACO), FAA, is authorized to approve alternative methods of compliance for this AD.

Incorporation by Reference

(c) The replacement shall be done in accordance with Boeing Alert Service Bulletin MD11-33A064, dated March 6, 2002. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(d) This amendment becomes effective on February 24, 2004.

Issued in Renton, Washington, on January 2, 2004.
Kevin M. Mullin,
Acting Manager, Transport Airplane Directorate, Aircraft Certification Service.

[FR Doc. 04-764 Filed 1-16-04; 8:45 am]

BILLING CODE 4910-13-P